DEPARTMENT OF HEALTH AND HUMAN SERVICES

National Institutes of Health

National Heart, Lung, and Blood Institute; Cancellation of Meeting

Notice is hereby given of the cancellation of the National Heart, Lung, and Blood Advisory Council, October 29, 2024, 8 a.m. to October 29, 2024, 5 p.m., National Institutes of Health, Building 31, 31 Center Drive, Bethesda, MD, 20892 which was published in the Federal Register on September 30, 2024, 89 FR 79933.

The meeting is cancelled.

Dated: October 9, 2024.
Bruce A. George,
Program Analyst, Office of Federal Advisory Committee Policy.

[FR Doc. 2024-23752 Filed 10-11-24; 8:45 am]

BILLING CODE 4140-01-P